DEPARTMENT OF COMMERCE

International Trade Administration

[A-583-837]

Polyethylene Terephthalate Film, Sheet, and Strip From Taiwan: Final Results of Antidumping Duty Administrative Review; 2012-2013

AGENCY: Enforcement and Compliance, International Trade Administration, U.S. Department of Commerce.

SUMMARY: On August 21, 2014, the Department of Commerce (“the Department”) published its preliminary results of the administrative review of the antidumping duty order on polyethylene terephthalate film, sheet, and strip (PET film) from Taiwan.¹ Based upon our analysis of the comments received, we have made no changes to the margin calculations for these final results and continue to determine that Nan Ya Plastics Corporation (“Nan Ya”) made sales of subject merchandise to the United States at below normal value. The final dumping margin is listed below in the “Final Results of Review” section of this notice.

¹ See Polyethylene Terephthalate Film, Sheet, and Strip From Taiwan: Preliminary Results of Antidumping Duty Administrative Review; 2012-2013, 79 FR 49496 (August 21, 2014) (“Preliminary Results”).

DATED: Effective Date: February 25, 2015.²

² Due to the closure of the Federal Government in Washington, DC on February 17, 2015, the Department reached this determination on the next business day (i.e., February 18, 2015). See Notice of Clarification: Application of “Next Business Day” Rule for Administrative Determination Deadlines Pursuant to the Tariff Act of 1930, As Amended, 70 FR 24533 (May 10, 2005).

FOR FURTHER INFORMATION CONTACT: Milton Koch or Toni Page at (202) 482-2584, or (202) 482-1398, respectively; AD/CVD Operations, Office VII, Enforcement and Compliance, International Trade Administration, U.S. Department of Commerce, 14th Street and Constitution Avenue NW., Washington, DC 20230.

SUPPLEMENTARY INFORMATION:

Background

On August 21, 2014, the Department published the Preliminary Results of this administrative review. The administrative review covers one producer and exporter of the subject merchandise to the United States, Nan Ya. On January 8, 2014, the Department published a notice rescinding the review with respect to Shinkong Materials Technology Corporation.³ The period of review (POR) is July 1, 2012, through June 30, 2013. We invited parties to comment on the Preliminary Results. Nan Ya timely filed a case brief on September 29, 2014; however, the Department rejected the case brief for containing new factual information. Nan Ya resubmitted its case brief on October 14, 2014. Petitioners timely filed a rebuttal brief on October 21, 2014.

³ See Polyethylene Terephthalate Film From Taiwan: Partial Rescission of Antidumping Duty Administrative Review; 2012-2013, 79 FR 1362 (January 8, 2014).

Scope of the Order

The products covered by the antidumping duty order are all gauges of raw, pretreated, or primed polyethylene terephthalate film, sheet, and strip, whether extruded or coextruded. Excluded are metalized films and other finished films that have had at least one of their surfaces modified by the application of a performance-enhancing resinous or inorganic layer of more than 0.00001 inches thick. Imports of polyethylene terephthalate film, sheet, and strip are currently classifiable in the Harmonized Tariff Schedule of the United States (“HTSUS”) under item number 3920.62.00.90. HTSUS subheadings are provided for convenience and customs purposes. The written description of the scope of the antidumping duty order is dispositive.

Analysis of Comments Received

The sole issue raised in the case and rebuttal briefs by parties regarding differential pricing methodology is addressed in the Issues and Decision Memorandum, which is dated concurrently with these final results and incorporated herein by reference.⁴ The Issues and Decision Memorandum is a public document and is on file in the Central Records Unit (“CRU”), Room 7046 of the main Department of Commerce building, as well as electronically via Enforcement and Compliance's Antidumping and Countervailing Duty Centralized Electronic Service System (“ACCESS”). ACCESS is available to registered users at http://access.trade.gov and in the CRU. In addition, a complete version of the Issues and Decision Memorandum can be accessed directly on the internet at http://www.trade.gov/enforcement. The signed Issues and Decision Memorandum and the electronic versions of the Issues and Decision Memorandum are identical in content.

⁴ See Memorandum to Paul Piquado, Assistant Secretary for Enforcement and Compliance, “Decision Memorandum for Final Results of Antidumping Duty Administrative Review: Polyethylene Terephthalate Film, Sheet, and Strip from Taiwan; 2012-2013,” dated February 18, 2015 (Issues and Decision Memorandum).

Changes Since the Preliminary Results

Based on our analysis of the comments received, we have made no adjustments to the margin calculations for Nan Ya.

Final Results of Review

We determine that Nan Ya's weighted-average dumping margin is 1.56 percent for entries of subject merchandise that were produced and/or exported by Nan Ya and that entered, or were withdrawn from warehouse, for consumption during the period July 1, 2012, through June 30, 2013.

Assessment Rates

The Department shall determine, and U.S. Customs and Border Protection (“CBP”) shall assess, antidumping duties on all appropriate entries. The Department intends to issue assessment instructions to CBP 15 days after the date of publication of the final results of this review. For any individually examined respondents whose weighted-average dumping margin is above de minimis (i.e., 0.5 percent) in the final results, we will calculate importer-specific ad valorem duty assessment rates based on the ratio of the total amount of dumping calculated for the importer's examined sales to the total entered value of those sales in accordance with 19 CFR 351.212(b)(1). We will instruct CBP to assess antidumping duties on all appropriate entries covered by this review when the importer-specific assessment rate calculated in the final results of this review is above de minimis. Where either the respondent's weighted average dumping margin is zero or below de minimis or an importer-specific assessment rate is zero or below de minimis, we will instruct CBP to liquidate the appropriate entries without regard to antidumping duties. The Department clarified its “automatic assessment” regulation on May 6, 2003.⁵ This clarification will apply to entries of subject merchandise during the POR produced by each respondent for which they did not know that their merchandise was destined for the United States. In such instances, we will instruct CBP to liquidate unreviewed entries at the all-others rate if there is no rate for the intermediate company(ies) involved in the transaction.⁶

⁵ See Antidumping and Countervailing Duty Proceedings: Assessment of Antidumping Duties, 68 FR 23954 (May 6, 2003) (“Assessment Policy Notice”).

⁶ For a full discussion of this clarification, see Assessment Policy Notice.

Cash Deposit Requirements

The following deposit requirements will be effective for all shipments of PET film from Taiwan entered, or withdrawn from warehouse, for consumption on or after the date of publication of the final results of this administrative review, as provided for by section 751(a)(2)(C) of the Tariff Act of 1930, as amended (“the Act”): (1) The cash deposit rate for Nan Ya will be the rate established in the final results of this review; (2) for previously reviewed or investigated companies not listed above, the cash deposit rate will continue to be the company-specific rate published for the most recent period; (3) if the exporter is not a firm covered in this review, a prior review, or the less-than-fair-value investigation, but the manufacturer is, the cash deposit rate will be the rate established for the most recent period for the manufacturer of the merchandise; and, (4) if neither the exporter nor the manufacturer is a firm covered in this or any previous review, the cash deposit rate will be the all others rate for this proceeding, 2.40 percent, as established in the less-than-fair-value investigation.⁷ These deposit requirements, when imposed, shall remain in effect until further notice.

⁷ See Notice of Amended Final Antidumping Duty Determination of Sales at Less Than Fair Value and Antidumping Duty Order: Polyethylene Terephthalate Film, Sheet, and Strip (PET Film) From Taiwan, 67 FR 44174 (July 1, 2002), as corrected in Notice of Amended Final Determination of Sales at Less Than Fair Value and Antidumping Duty Order: Polyethylene Terephthalate Film, Sheet, and Strip (PET Film) from Taiwan, 67 FR 46566 (July 15, 2002).

Disclosure

We will disclose the calculations performed within five days of the date of publication of this notice to parties in this proceeding in accordance with 19 CFR 351.224(b).

Notification Regarding Administrative Protective Orders

This notice is the only reminder to parties subject to the administrative protective order (“APO”) of their responsibility concerning the return or destruction of proprietary information disclosed under the APO in accordance with 19 CFR 351.305(a)(3), which continues to govern business proprietary information in this segment of the proceeding. Timely written notification of the return or destruction of APO materials or conversion to judicial protective order is hereby requested. Failure to comply with the regulations and the terms of an APO is a sanctionable violation.

Notification to Importers

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

These final results of administrative review and notice are published in accordance with sections 751(a)(1) and 777(i)(1) of the Act and 19 CFR 351.213(h).

Dated: February 18, 2015.
Paul Piquado,
Assistant Secretary for Enforcement and Compliance.

[FR Doc. 2015-03897 Filed 2-24-15; 8:45 am]

BILLING CODE 3510-DS-P